DEPARTMENT OF HEALTH AND HUMAN SERVICES

Administration for Children and Families

Submission for OMB Review; Comment Request

Title: Child Care and Development Fund Annual Financial Report for Tribes (ACF-696T).

OMB No.: 0970-0195.

Description: The Child Care and Development Fund (CCDF) annual financial reporting form (ACF-696T) provides a mechanism for Indian Tribes to report expenditures under the CCDF program. The CCDF program provides funds to Tribes, as well as States and Territories, to assist low-income families in obtaining child care so that they can work or attend training/education, and to improve the quality of care. Information collected via the ACF-696T allows the Administration for Children and Families (ACF) to monitor Tribal expenditures and to estimate outlays, and may be used to prepare ACF budget submissions to Congress. Office of Management and Budget (OMB) approval for the existing form expires on April 30, 2008.

Respondents: Indian Tribes and Tribal Organizations that are CCDF grantees.

Annual Burden Estimates
Instrument | Number of respondents | Number of responses per respondent | Average burden hours per response | Total burden hours
ACF-696T CCDF Financial Reporting Form for Tribes | 232 | 1 | 8 | 1,856

Estimated Total Annual Burden Hours: 1,856.

Additional Information: Copies of the proposed collection may be obtained by writing to the Administration for Children and Families, Office of Administration, Office of Information Services, 370 L'Enfant Promenade, SW., Washington, DC 204447, Attn: ACF Reports Clearance Officer. All requests should be identified by the title of the information collection. E-mail address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following:

Office of Management and Budget, Paperwork Reduction Project, Fax: 202-395-6974, Attn: Desk Officer for the Administration for Children and Families.

November 29, 2007.
Robert Sargis,
Reports Clearance Officer.

[FR Doc. 07-5932 Filed 12-4-07; 8:45 am]

BILLING CODE 4184-07-M